DEPARTMENT OF TRANSPORTATION

National Highway Traffic Safety Administration

[U.S. DOT Docket Number NHTSA-2011-0164]

Reports, Forms, and Recordkeeping Requirements

AGENCY: National Highway Traffic Safety Administration (NHTSA), Department of Transportation.

ACTION: Request for public comment on extension of a currently approved collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes an existing collection of information for 49 CFR Part 574, Tire Identification and Recordkeeping, for which NHTSA intends to seek renewed OMB approval. The Federal Register notice with a 60-day comment period was published on December 1, 2011 (76 FR 74845).

DATES: Comments must be received on or before March 14, 2012.

ADDRESSES: Send comments within 30 days to the Office of Information and Regulatory Affairs, Office of Management and Budget, 725 17th Street NW., Washington, DC 20503. Attention: NHTSA Desk Officer.

FOR FURTHER INFORMATION CONTACT: Mr. Jeffrey Woods, NHTSA, 1200 New Jersey Avenue SE., Room W43-467, NVS-122, Washington, DC 20590. Telephone: (202) 366-6206.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(1) Whether the proposed collection of information is necessary for the proper performance of the functions of the agency, including whether the information will have practical utility;

(2) The accuracy of the agency's estimate of the burden of the proposed collection of information, including the validity of the methodology and assumptions used;

(3) How to enhance the quality, utility, and clarity of the information to be collected;

(4) How to minimize the burden of the collection of information on those who are to respond, including the use of appropriate automated, electronic, mechanical, or other technological collection techniques or other forms of information technology, e.g. permitting electronic submission of responses.

In compliance with these requirements, NHTSA published a notice in the Federal Register providing a 60-day comment period, and we received no public comments on the renewal of this information collection (76 FR 74845). Today's notice provides a 30-day comment period in which public comments on the renewal of this information collection may be submitted to OMB.

Title: Tire Identification and Recordkeeping.

OMB Control Number: 2127-0050.

Form Number: This collection of information uses no standard form.

Type of Request: Extension of a currently approved collection of information.

Summary of the Collection of Information: 49 U.S.C. 30117(b) requires each tire manufacturer to collect and maintain records of the first purchasers of new tires. To carry out this mandate, 49 CFR Part 574, Tire Identification and Recordkeeping, requires tire dealers and distributors to record the names and addresses of retail purchasers of new tires and the identification numbers(s) of the tires sold. A specific form is provided to tire dealers and distributors by tire manufacturers for recording this information. The completed forms are returned to the tire manufacturers where they are retained for not less than five years. Part 574 requires independent tire dealers and distributors to provide a registration form to consumers with the tire identification number(s) already recorded and information identifying the dealer/distributor. The consumer can then record his/her name and address and return the form to the tire manufacturer via U.S. mail, or alternatively, the consumer can provide this information electronically on the tire manufacturer's Web site if the tire manufacturer provides this capability. Additionally, motor vehicle manufacturers are required to record the names and addresses of the first purchasers (for purposes other than resale), together with the identification numbers of the tires on the new vehicle, and retain this information for not less than five years.

Description of the Need for the Information and the Use of the Information: The information is used by a tire manufacturer after it or the agency determines that some of its tires either fail to comply with an applicable safety standard or contain a safety related defect. With the information, the tire manufacturer can notify the first purchaser of the tire and provide them with any necessary information or instructions to remedy the non-compliance situation or safety defect.

Without this information, efforts to identify the first purchaser of tires that have been determined to be defective or nonconforming pursuant to Sections 30118 and 30119 of Title 49 U.S.C. would be impeded. Further, the ability of the purchasers to take appropriate action in the interest of motor vehicle safety may be compromised.

Description of the Likely Respondents (Including Estimated Number and Proposed Frequency of Response to the Collection of Information): We estimate that the collection of information affects 10 million respondents annually. This group consists of approximately 20 tire manufacturers, 59,000 new tire dealers and distributors and 10 million consumers who choose to register their tire purchases with tire manufacturers. A response is required by motor vehicle manufacturers upon each sale of a new vehicle and by non-independent tire dealers with the each sale of a new tire. A consumer may elect to respond when purchasing a new tire from an independent tire dealer.

Estimate of the Total Annual Reporting and Recordkeeping Burden Resulting from the Collection of Information: The estimated burden is as follows:

New tire dealers and distributors: 59,000.

Consumers: 10,000,000.

Total tire registrations (manual): 54,000,000.

Total tire registration hours (manual): 225,000.

Recordkeeping hours (manual): 25,000.

Total annual tire registration and recordkeeping hours: 250,000.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Issued on: February 8, 2012.
Christopher J. Bonanti,
Associate Administrator for Rulemaking.

[FR Doc. 2012-3302 Filed 2-10-12; 8:45 am]

BILLING CODE 4910-59-P